ENVIRONMENTAL PROTECTION AGENCY

[CERCLA 01-2020-0054; FRL-10014-18-Region 1]

Proposed Comprehensive Environmental Response, Compensation, and Liability Act (CERCLA) Administrative Settlement Agreement and Order on Consent: City of Somerville, Conway Park Site, Somerville, Massachusetts

AGENCY: Environmental Protection Agency (EPA).

ACTION: Notice of proposed settlement; request for public comments.

SUMMARY: Notice is hereby given that the Environmental Protection Agency (“EPA”), has entered into a proposed settlement, embodied in an Administrative Settlement Agreement and Order on Consent (“Settlement Agreement”), with settling party City of Somerville, Massachusetts (“Somerville”), with respect to the Conway Park Site, located in Somerville, Middlesex County, Massachusetts (“Conway Park Site”). Under the settlement, Somerville will perform part of the removal action, in coordination with EPA, as set forth in the June 15, 2020 Action Memorandum for the Site. This notice applies to a compromise of up to $3 million in direct and indirect EPA costs associated with EPA's contribution to the removal action at the Site. The Settlement Agreement also resolves Somerville's liability for work performed and future response costs.

DATES: Comments must be submitted by October 1, 2020.

ADDRESSES: Comments should be addressed to Cynthia Lewis, Senior Enforcement Counsel, U.S. Environmental Protection Agency, 5 Post Office Square, Suite 100 (ORC 04-4), Boston, MA 02109-3912 (Telephone number: (617) 918-1889) and should reference the Conway Park Site, U.S. EPA Docket No: CERCLA 01-2020-0054.

FOR FURTHER INFORMATION CONTACT: A copy of the proposed settlement may be obtained from Stacy Greendlinger, Superfund and Emergency Management Division, U.S. Environmental Protection Agency, Region I, 5 Post Office Square, Suite 100 (02-2), Boston, MA 02109-3912, Telephone number: (617) 918-1403; email address: greendlinger.stacy@epa.gov.

SUPPLEMENTARY INFORMATION: Notice of this proposed Settlement Agreement is made in accordance with section 122(i) of CERCLA, 42 U.S.C. 9622(i). The Settlement Agreement is an administrative settlement agreement made in accordance with sections 104, 106(a), 107, and 122 of CERCLA, and includes a compromise of EPA response costs, under CERCLA sections 107(a) and the authority of the Attorney General of the United States to compromise and settle claims of the United States, with Somerville concerning the Conway Park Site. The Settlement Agreement includes a covenant not to sue pursuant to sections 106 (for the work) and 107(a) (for future response costs and EPA costs to perform the work up to the amount of $3 million) of CERCLA, 42 U.S.C. 9606 and 9607(a), relating to the Site, and protection from contribution actions or claims as provided by sections 113(f)(2) and 1229(h)(4) of CERCLA. Pursuant to the terms of the proposed settlement, EPA has reserved its right to recover any costs incurred to perform the removal action that are above the amount of $3 million, as well as EPA's past costs. The Settlement Agreement has been approved by the Environmental and Natural Resources Division of the United States Department of Justice.

For 30 days following the date of publication of this document, the Agency will receive written comments relating solely to the cost compromise component of the settlement under CERCLA section 107(a) (the compromise of up to $3 million in direct and indirect EPA costs associated with EPA's contribution to the implementation of a removal action at the Site). Section XIV (Payment of Response Costs) of the Settlement Agreement will become effective when EPA notifies Somerville that the public comment period has closed and that such comments, if any, do not require that EPA modify or withdraw from consent to Section XIV (Payment of Response Costs) of this Agreement. The United States will consider all comments received and may seek to modify or withdraw consent from the cost compromise contained in the proposed settlement if comments received disclose facts or considerations which indicate that the cost compromise contained in the settlement is inappropriate, improper, or inadequate. The Agency's response to any comments received will be available for public inspection at the Environmental Protection Agency—Region I, 5 Post Office Square, Suite 100, Boston, MA 02109-3912.

Bryan Olson,
Director, Superfund and Emergency Management Division.

[FR Doc. 2020-19197 Filed 8-31-20; 8:45 am]

BILLING CODE 6560-50-P